DEPARTMENT OF ENERGY

Federal Energy Regulatory Commission

[Docket No. RD23-1-000]

Commission Information Collection Activities (FERC-725S); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the requirements and burden of the information collection FERC 725S—Mandatory Reliability Standards: Emergency Preparedness and Operations (EOP) Reliability Standards.

DATES: Comments on the collection of information are due June 16, 2023.

ADDRESSES: Send written comments on FERC-725S (identified by Docket No. RD23-1-000) to the Office of Management and Budget (OMB) through www.reginfo.gov/public/do/PRAMain, Attention: Federal Energy Regulatory Commission Desk Officer. Please identify the OMB Control Number 1902-0270 (Mandatory Reliability Standards: Emergency Preparedness and Operations (EOP) Reliability Standards) in the subject line. Your comments should be sent within 30 days of publication of this notice in the Federal Register.

Please submit copies of your comments (identified by Docket No. RD23-1-000 and FERC-725S) to the Commission as noted below. Electronic filing through https://www.ferc.gov is preferred.

• Electronic Filing: Documents must be filed in acceptable native applications and print-to-PDF, but not in scanned or picture format.

• For those unable to file electronically, comments may be filed by USPS mail or by hand (including courier) delivery:

Mail via U.S. Postal Service only, addressed to: Federal Energy Regulatory Commission, Secretary of the Commission, 888 First Street NE, Washington, DC 20426.

Hand (including courier) delivery to: Federal Energy Regulatory Commission, 12225 Wilkins Avenue, Rockville, MD 20852.

Please reference the specific collection number(s) (FERC-725S) and/or title(s) (Mandatory Reliability Standards: Emergency Preparedness and Operations (EOP) Reliability Standards) in your comments.

Instructions: OMB submissions must be formatted and filed in accordance with submission guidelines at: www.reginfo.gov/public/do/PRAMain. Using the search function under the “Currently Under Review field,” select “Federal Energy Regulatory Commission,” click “submit,” and select “comment” to the right of the subject collection. FERC submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov and telephone at (202) 502-8663.

SUPPLEMENTARY INFORMATION:

Title: FERC-725S (Mandatory Reliability Standards: Emergency Preparedness and Operations (EOP) Reliability Standards).

OMB Control No.: 1902-0270.

Type of Request: Revision of the FERC-725S information collection requirements with changes to the current reporting and recordkeeping requirements.

Abstract: On March 10, 2023 the Commission published an order in Docket No. RD23-1-000 that approved Extreme Cold Weather Reliability Standards EOP-011-3 and EOP-12-1, which were submitted by the North American Electric Corporation (NERC).¹ The order included a 60-day notice in the Federal Register and received no comments. The order modifies the FERC-725S Information Collection and directed NERC to modify Reliability Standard EOP-012-1.

¹ 88 FR 14994.

The collection is currently approved by OMB and contains Reliability Standards EOP-010-1, EOP-011-1, EOP-004-4, EOP-005-3, EOP-006-3, EOP-008-2 (Table 1). In the order, Docket No. RD23-1-000, the Commission proposes to replace the current OMB approved Reliability Standard EOP-011-1 ² with Reliability Standard EOP-011-3 (Table 2) and add a new information collection line item for Reliability Standard EOP-012-1 (Table 3).

² The currently OMB approved FERC-725S includes the burden related to Reliability Standard EOP-011-1. Reliability Standard EOP-011-1 was superseded by Reliability Standard EOP-011-2, which was approved by the Commission in Docket No. RD21-5-000 (issued August 24, 2021). Reliability Standard EOP-011-3, as noted in Docket No. RD23-1-000, will supersede Reliability Standard EOP-011-2; thus, the burdens resulting from Reliability Standard EOP-011-3 will be reflected in the FERC-725S information collection.

The Reliability Standard EOP-011-3 modifications transfer Requirements R7 and R8 to Reliability Standard EOP-012-1, as described below. For Reliability Standard EOP-011-3, transmission operators and to a much lesser extent, balancing authorities, still have a one-time cost to modify existing operating plans based on revisions to Reliability Standard EOP-011-3 (Requirements R1 and R2) and to mitigate operating emergencies related to cold weather conditions. Additionally, reliability coordinators will need to review the modified operating plans of the transmission operators. In year three and ongoing, the transmission operator and reliability coordinator estimates are lower to reflect lower paperwork burden for upkeep and review of the operating plans for emergencies based on the modified Reliability Standard EOP-011-3 to ensure that the new requirements are in place and that applicable entities are following those plans.

The new Reliability Standard EOP-012-1, which is applicable to 1,107 generator owners and 981 generator operators, contains several new requirements and two requirements from Reliability Standard EOP-011-2 that have been moved to Reliability Standard EOP-012-1. In year three and ongoing, the estimates are lower to reflect that the implementation plan(s) to mitigate the reliability effects of extreme cold weather conditions on generating units are in place and that entities are familiar with the EOP-012-1 requirements.

Type of Respondent: Balancing Authority (BA),Transmission Operations (TOP) and Reliability Coordinators (RC).

Estimate of Annual Burden: ³ The Commission estimates the total annual burden and cost for this information collection in the table below.

³ “Burden” is the total time, effort, or financial resources expended by persons to generate, maintain, retain, or disclose or provide information to or for a Federal agency. For further explanation of what is included in the information collection burden, refer to title 5 Code of Federal Regulations 1320.3.

⁴ Burden hours per response may also include any methods for improvement not limited to trainings, drills, simulations, testing, etc.

⁵ TOP=Transmission Operator, BA=Balancing Authority, GO=Generator Owner, GOP=Generator Operator and RC=Reliability Coordinator.

Table 1—Current Costs and Burden Related to FERC-725S (1902-0270)
Reliability standard and associated requirement | Number of respondents | Annual number of responses per respondent | Total number of responses | Average burden & cost per response | Total annual burden & total annual cost | Cost per respondent ($)
| (1) | (2) | (1) * (2) = (3) | (4) | (3) * (4) = (5) | (5) ÷ (1)
EOP-010-1 | 181 | 1 | 181 | 20 hrs; $1,660 | 3,620 hrs; $300,460 | 1,660
EOP-011-1 | 12 | 1 | 12 | 1,500 hrs.; $124,500 | 18,000 hrs.; $1,494,000 | 124,500
EOP-004-4, EOP-005-3, EOP-006-3, EOP-008-2 | 280 | 1 | 280 | 250.58 ⁴ hrs; $20,798 | 70,162.4 hrs; $5,234,440 | 20,798
Total EOP | 473 |  |  |  | 91,782 hrs; $7,028,900 |

Table 2—Proposed Changes Due to Final Rule in Docket No. RD23-1-000
Reliability standard & requirement | Type ⁵ and number of entity | Number of annual responses per entity | Total number of responses | Average number of burden hours per response ⁶ | Total burden hours
| (1) | (2) | (1) * (2) = (3) | (4) | (3) * (4) = (5)
FERC-725S—Proposed estimates due to RD23-1 for EOP-011-3
One Time Estimate—Years 1 and 2 EOP-011-3
EOP-011-3 | 168 (TOP) | 1 | 168 | 60 hrs; $3,893.40 | 10,080 hrs; $654,091.2.
EOP-011-3 ⁷ | 98 (BA) | 1 | 98 | 6 hrs; $389.34 | 588 hrs; $38,155.32.
EOP-011-3 ⁸ | 12 (RC) | 1 | 12 | 28 hrs; $1,816.92 | 336 hrs; $21,803.04.
Sub-total of EOP-011-3 (One time) |  |  | 278 |  | 11,004 hrs; $714,049.56.
Ongoing Estimate—Year 3 ongoing EOP-011-3
EOP-011-3 ⁹ | 168 (TOP) | 1 | 168 | 10 hrs; $648.90 | 1,680 hrs; $109,015.20.
EOP-011-3 ¹⁰ | 98 (BA) | 1 | 98 | 10 hrs; $648.90 | 980 hrs; $63,592.20.
EOP-011-3 ¹¹ | 12 (RC) | 1 | 12 | 14 hrs; $908.46 | 168 hrs; $10,901.52.
Sub-Total of EOP-011-3 (ongoing) |  |  | 278 |  | 2,828; $183,508.92.
Sub-Total of ongoing burden averaged over three years |  |  | 92.67 (rounded) |  | 942.67 hrs. (rounded); $61,169.64.
Proposed Total Burden Estimate of EOP-011-3 |  |  | 370.67 |  | 11,946.67 hrs; $775,219.42 (rounded).

Table 3—Proposed Changes Due to Final Rule in Docket No. RD23-1-000 for EOP-012-1
Reliability standard & requirement | Type and number of entity | Number of annual responses per entity | Total number of responses | Average number of burden hours per response ¹² | Total burden hours
| (1) | (2) | (1) * (2) = (3) | (4) | (3) * (4) = (5)
FERC-725S
One Time Estimate—Years 1 and 2 EOP-012-1
EOP-012-1 ¹³ | 1,107 (GO) | 1 | 1,107 | 150 hrs.; $9,733.50 | 166,050 hrs; $10,774,984.50.
EOP-012-1 | 981 (GOP) | 1 | 981 | 10 hrs; $648.90 | 9,810 hrs; $636,570.90.
Sub-Total for EOP-012-1 (one-time) |  |  | 2,088 | 160 hrs; $10,382.40 | 175,860 hrs; $11,411,555.40.
Ongoing Estimate—Year 3 ongoing EOP-012-1
EOP-012-1 | 1,107 (GO) | 1 | 1,107 | 40 hrs; $2,595.60 | 40,680 hrs; $2,639,725.20.
EOP-012-1 | 981 (GOP) | 1 | 981 | 10 hrs; $648.90 | 9,810 hrs; $ 636,570.90.
Sub-Total for EOP-012-1 (ongoing) |  |  | 2,088 | 50 hrs; $ 3,244.50 | 50,490 hrs; $ 3,276,296.10.
Sub-Total of ongoing burden averaged over three years |  |  | 696 |  | 16,830 hrs; $1,092,098.70.
Proposed Total Burden Estimate of EOP-012-1 |  |  | 2,784 |  | 192,690 hrs; $12,503,654.10.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁶ The estimated hourly cost (salary plus benefits) is a combination based on the Bureau of Labor Statistics (BLS), as of 2022, for 75% of the average of an Electrical Engineer (17-2071)—$77.02, mechanical engineers (17-2141)—$67.79. $77.02 + $67.79/2 = 72.405 × .75 = 54.303 ($54.30-rounded) ($54.30/hour) and 25% of an Information and Record Clerk (43-4199) $42.35 × .25% = 10.5875 ($10.59 rounded) ($10.59/hour), for a total ($54.30 + $10.59 = $64.89/hour).

⁷ Reduce the estimate for balancing authorities from EOP-011-2 down from previous 60 hours to 6 hours for EOP-011-3.

⁸ Reduce the estimate for reliability coordinators from EOP-011-2 down from previous 40 hours to 28 hours for EOP-011-3.

⁹ Reduce the estimate for transmission operators from EOP-011-2 down from previous 50 hours to 10 hours for EOP-011-3.

¹⁰ Reduce the estimate for balancing authorities from EOP-011-2 down from previous 50 hours to 10 hours for EOP-011-3.

¹¹ Reduce the estimate for reliability coordinators from EOP-011-2 down from previous 20 hours to 14 hours for EOP-011-3.

¹² The estimated hourly cost (salary plus benefits) is a combination based on the Bureau of Labor Statistics (BLS), as of 2022, for 75% of the average of an Electrical Engineer (17-2071)—$77.02, mechanical engineers (17-2141)—$67.79. $77.02 + $67.79/2 = 72.405 × .75 = 54.303 ($54.30-rounded) ($54.30/hour) and 25% percent of an Information and Record Clerk (43-4199) $42.35 × .25% = 10.5875 ($10.59 rounded) ($10.59/hour), for a total ($54.30 + $10.59 = $64.89/hour).

¹³ The estimates for the generator owner and generator operator are being moved from the current EOP-011-2 to the new EOP-012-1.

Dated: May 11, 2023.
Debbie-Anne A. Reese,
Deputy Secretary.

[FR Doc. 2023-10511 Filed 5-16-23; 8:45 am]

BILLING CODE 6717-01-P